DEPARTMENT OF HEALTH AND HUMAN SERVICES

Centers for Medicare & Medicaid Services

[Document Identifier: CMS-10148]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: HIPAA Administrative Simplification Enforcement Non-Privacy Enforcement; Use: The Health Insurance Portability and Accountability Act (HIPAA) became law in 1996 (Pub. L. 104-191). Subtitle F of Title II of HIPAA, entitled “Administrative Simplification,” requires the Secretary of HHS to adopt national standards for certain information-related activities of the health care industry. The HIPAA provisions, by statute, apply only to “covered entities” referred to in section 1320d-2(a)(1) of this title. Responsibility for administering and enforcing the HIPAA Administrative Simplification Transactions, Code Sets, Identifiers and Security rules has been delegated to CMS. The initial information collected to enforce these rules will be used to initiate enforcement actions. This information collection change clarifies the “Identify the HIPAA Non-Privacy complaint category” section of the complaint form. In this section, complainants are given an opportunity to check the “Unique Identifiers” option to categorize the type of HIPAA complaint being filed. The revised form now includes a “”For a Unique Identifier Complaint” section, that allows a complaint to further categorize their identifier complaint as either a “National Provider Identifier (NPI)” or an “Employer Identification Number (EIN)” complaint. Form Number: CMS-10148 (OMB#: 0938-948); Frequency: Reporting—On occasion; Affected Public: Individuals or households, Business or other for-profit, Not-for-profit institutions, and State, Local, or Tribal governments; Number of Respondents: 500; Total Annual Responses: 500; Total Annual Hours: 500.

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503, Fax Number: (202) 395-6974.

Dated: February 13, 2007.
Michelle Shortt,
Director, Regulations Development Group, Office of Strategic Operations and Regulatory Affairs.

[FR Doc. E7-3028 Filed 2-22-07; 8:45 am]

BILLING CODE 4120-01-P